DEPARTMENT OF COMMERCE

National Oceanic and Atmospheric Administration

RIN 0648-XF809

Endangered and Threatened Species; Take of Anadromous Fish

AGENCY: National Marine Fisheries Service (NMFS), National Oceanic and Atmospheric Administration (NOAA), Commerce.

ACTION: Notice of decision and availability of decision documents associated with the issuance of one Section 10(a)(1)(A) permit to enhance the propagation and survival of endangered and threatened species.

SUMMARY: This notice advises the public that one direct take permit has been issued pursuant to Section 10(a)(1)(A) of the Endangered Species Act of 1973 (ESA) for continued operation, monitoring, and evaluation of hatchery programs rearing and releasing Sacramento River winter-run Chinook salmon into the Upper Sacramento River Basin. This notice also announces the availability of the associated decision documents. Section 10(a)(1)(A) Permit 16477 was issued to the U.S. Fish and Wildlife Service for the implementation of two Hatchery and Genetic Management Plans (HGMPs) at Livingston Stone National Fish Hatchery.

DATES: The permit was issued on September 29, 2017 subject to certain conditions set forth therein. Subsequent to issuance, the necessary countersignatures by the applicants were received. The permits expire on December 31, 2027.

ADDRESSES: Requests for copies of the decision documents or any of the other associated documents should be directed to NOAA's National Marine Fisheries Service, California Central Valley Office, 650 Capitol Mall, Suite 5-100, Sacramento, California 95814. The documents are also available online at www.westcoast.fisheries.noaa.gov.

FOR FURTHER INFORMATION CONTACT: Amanda Cranford, Sacramento, California (Phone: 916-930-3706; Fax: 916-930-3629; email: Amanda.Cranford@noaa.gov).

SUPPLEMENTARY INFORMATION:

This notice is relevant to the following species and evolutionarily significant unit (ESU)/distinct population segment (DPS):

Chinook salmon (Oncorhynchus tshawytscha): Endangered, naturally produced and artificially propagated Sacramento River winter-run and Threatened, naturally produced and artificially propagated Central Valley spring-run;

Steelhead (O. mykiss): Threatened, naturally produced and artificially propagated California Central Valley.

Dated: November 7, 2017.
Angela Somma,
Chief, Endangered Species Division, Office of Protected Resources, National Marine Fisheries Service.

[FR Doc. 2017-24591 Filed 11-13-17; 8:45 am]

BILLING CODE 3510-22-P